NUCLEAR REGULATORY COMMISSION

Sunshine Act Notice

Agency Holding the Meetings: Nuclear Regulatory Commission.

Dates: Weeks of March 26, April 2, 9, 16, 23, 30, 2007.

Place: Commissioners' Conference Room, 11555 Rockville Pike, Rockville, Maryland.

Status: Public and Closed.

Matters to be Considered:

Week of March 26, 2007

Tuesday, March 27, 2007

2:55 p.m.

Affirmation Session (Public Meeting) (Tentative)

a. System Energy Resources, Inc. (Early Site Permit for Grand Gulf ESP) (Tentative).

Thursday, March 29, 2007

9:25 a.m.

Affirmation Session (Public Meeting) (Tentative).

a. Consumers Energy Company, et al. (Palisades Nuclear Plant); License Transfer Application (Tentative).

b. CBS Corporation's Petition for Hearing Regarding an NRC Staff Decision not to Docket a CBS Request for an Order that Would Change Decontamination Standards Governing a Westinghouse Materials License at Waltz Mill (Tentative).

9:30 a.m.

Discussion of Management Issues (Closed—Ex. 2).

1:30 p.m.

Discussion of Security Issues (Closed—Ex. 1, 3, & 9).

Week of April 2, 2007—Tentative

There are no meetings scheduled for the Week of April 2, 2007.

Week of April 9, 2007—Tentative

There are no meetings scheduled for the Week of April 9, 2007.

Week of April 16, 2007—Tentative

Monday, April 16, 2007

1:30 p.m.

Discussion of Security Issues (Closed-Ex. 1, 2, & 3).

Tuesday, April 17, 2007

9 a.m.

Briefing on New Reactor Issues—Environmental Issues (Public Meeting) (Contact: James Lyons, 301 415-3050).

This meeting will be webcast live at the Web address— www.nrc.gov.

1 p.m.

Briefing on Office of Nuclear Regulatory Research (RES) Programs, Performance, and Plans (Public Meeting) (Contact: Ann Ramey-Smith, 301 415-6877).

This meeting will be webcast live at the Web address— www.nrc.gov.

Week of April 23, 2007—Tentative

There are no meetings scheduled for the Week of April 23, 2007.

Week of April 30, 2007—Tentative

There are no meetings scheduled for the Week of April 30, 2007.

* * * * *

*The schedule for Commission meetings is subject to change on short notice. To verify the status of meetings call (recording)—(301) 415-1292. Contact person for more information: Michelle Schroll, (301) 415-1662.

* * * * *

Additional Information

Affirmation of “Consumers Energy Company, et al. (Palisades Nuclear Plant); License Transfer Application” tentatively scheduled on Thursday, March 22, 2007, has been tentatively rescheduled on Thursday, March 29, 2007, at 9:25 a.m.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 22, 2007.
R. Michelle Schroll,
Office of the Secretary.

[FR Doc. 07-1501 Filed 3-23-07; 12:25 pm]

BILLING CODE 7590-01-P